DEPARTMENT OF THE TREASURY

Agency Information Collection Activities; Submission for OMB Review; Comment Request; Imposition of Special Measure Against Banco Delta Asia

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 17, 2020 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Financial Crimes Enforcement Network (FinCEN)

Title: Imposition of Special Measure against Banco Delta Asia.

OMB Control Number: 1506-0045.

Type of Review: Extension without change of a currently approved collection.

Description: On March 14, 2007, the Financial Crimes Enforcement Network (FinCEN) of the U.S. Department of the Treasury issued a final rule under the authority of section 5318A of Title 31, United States Code, to impose a special measure with respect to Banco Delta Asia. Specifically, FinCEN imposed special measure five prohibiting U.S. financial institutions from opening or maintaining accounts for, or on behalf of, Banco Delta Asia and requiring U.S. financial institution to apply due diligence to its correspondent accounts to ensure they are not used to provide Banco Delta Asia with indirect access to the U.S. financial system.

Form: None.

Affected Public: Businesses or other for-profits.

Estimated Number of Respondents: 23,615.

Frequency of Response: Once.

Estimated Total Number of Annual Responses: 23,615.

Estimated Time per Response: 1 hour.

Estimated Total Annual Burden Hours: 23,615.

(Authority: 44 U.S.C. 3501 et seq.)

Dated: December 12, 2019.
Spencer W. Clark,
Treasury PRA Clearance Officer.

[FR Doc. 2019-27213 Filed 12-17-19; 8:45 am]

BILLING CODE 4810-02-P